DEPARTMENT OF THE INTERIOR

National Park Service

Notice of Availability of the Record of Decision on the First Ladies National Historic Site General Management Plan Environmental Impact Statement, First Ladies National Historic Site, Ohio

AGENCY: National Park Service, Interior.

SUMMARY: Pursuant to section102(2)(C) of the National Environmental Policy Act of 1969, 83 Stat. 852, 853, codified as amended at 42 U.S.C. 4332(2)(C), the National Park Service (NPS) announces the availability of the Record of Decision (ROD) on the final General Management Plan/Environmental Impact Statement (GMP/EIS) for the First Ladies National Historic Site, Ohio. On May 22, 2006, the Regional Director, Midwest Region, approved the ROD for the project. As soon as practicable, the NPS will begin to implement the preferred alternative contained in the final GMP/EIS issued on April 7, 2006.

The following course of action will occur under the preferred alternative. Cultural resources will be preserved and various types of interpretive programs will be developed to encourage visitors to learn about the importance of the First Ladies and the historic events associated with First Ladies. Interpretive programs will focus on the roles of First Ladies in both their public and private lives. Partnerships will be pursued with a wide variety of agencies and organizations to publicize the site and to share programming, information, and exhibits.

Most of the Saxton House (House) will be managed as an historic zone. Visitor access would be limited mostly to interpretive tours. The story of the First Ladies will be interpreted at both the House and the Education and Research Center (ERC). Exhibits of artifacts will support the interpretive program. Onsite interpretation will be provided at the House through guided tours, with further information available in programs in the ERC Theater and during special programs. Most of the ERC will be managed as a library zone, where resources are maintained at a high level of preservation. Visitor use will be restricted to portions of two floors. Implementing this alternative will cost approximately $395,000 in one-time upgrade and construction expenses.

This course of action and three other alternatives were analyzed in the draft and final GMP/EIS. The full range of foreseeable environmental consequences was assessed and appropriate mitigating measures were identified.

The ROD includes a statement of the decision made, synopses of other alternatives considered, the basis for the decision, a description of the environmentally preferred alternative, a finding on impairment of park resources and values, a listing of measures to minimize environmental harm, an overview of public involvement in the decision making process, and a conclusion.

FOR FURTHER INFORMATION CONTACT: Ms. Carol J. Spears, Site Manager, First Ladies National Historic Site, 8095 Mentor Avenue, Mentor, Ohio 44060, telephone 440-974-2993. Copies of the ROD may be obtained by mail from Ms. Spears or the Planning, Environment and Public Comment Web site at http://parkplanning.nps.gov/fila.

Dated: May 22, 2006.
Ernest Quintana,
Regional Director, Midwest Region.

[FR Doc. 06-6312 Filed 7-18-06; 8:45 am]

BILLING CODE 4312-86-M